DEPARTMENT OF AGRICULTURE

Forest Service

Lower Joseph Creek Restoration Project, Wallowa-Whitman National Forest Land and Resource Management Plan Amendment for Research Natural Area Establishment

AGENCY: Forest Service, USDA.

ACTION: Notice of objection filing period.

SUMMARY: James Peña, the Regional Forester for the Pacific Northwest Region, has prepared a Final Environmental Impact Statement (FEIS) and draft Record of Decision (ROD) for the establishment of two Research Natural Areas (RNA) as part of the Lower Joseph Creek Restoration Project. The draft ROD authorizes establishment of both the Horse Pasture Ridge and Haystack Rock RNAs.

The FEIS and draft ROD are available on the forest's Web site at http://www.fs.usda.gov/project/?project=43379. A hardcopy of the document(s) and/or further information is available by contacting the person listed under the FOR FURTHER INFORMATION CONTACT section below. The draft ROD is subject to objection under 36 CFR part 219, subpart B. A written notice of objection, including any attachments, must be submitted (regular mail, express delivery, messenger service, fax, email, or hand delivery) within 60 days of the publication date of the notice in the newspaper of record, the Oregonian. The newspaper notice is the exclusive means for calculating the time to file an objection (36 CFR 219.56(b)(3)). An electronic scan of this notice was posted on the Web site noted above. Those wishing to object to the draft ROD should not rely upon dates or timeframe information provided by any other source.

Any objection must be submitted to Glen Casamassa, Associate Deputy Chief, who is the Objection Reviewing Officer, at one of the addresses listed in the ADDRESSES section below.

The objection process provides an opportunity for members of the public who have participated in the planning process for the forest plan amendment to have any unresolved concerns reviewed by the Forest Service prior to a final decision by the Responsible Official. Under 36 CFR 219.53(a), objections will be accepted only from those individuals or organizations who have previously submitted substantive formal comments related to this amendment of the Wallowa-Whitman National Forest Plan during previous opportunities for public comment provided. Objections must be based on previously submitted substantive comments attributed to the objector, unless the objection concerns an issue that arose after the opportunities for public comment (36 CFR 219.53(a)). In addition, objections must meet the content requirements of 36 CFR 219.54(c), which can be found in SUPPLEMENTARY INFORMATION.

All objections are open to public inspection and will be posted to the Forest Service Web site (http://www.fs.usda.gov/project/?project=43379). A notice of objections received will be published in the newspaper of record, the Oregonian, within 10 days after the close of the objection filing period.

DATES: The objection filing period began upon publication of the notice in the newspaper of record (publication occurred on July 15, 2016 in the Oregonian) and ends 60 days thereafter.

ADDRESSES: Objections must be submitted to one of the addresses below:

1. Postal Delivery: USDA Forest Service Attn: Objection Reviewing Officer, 1400 Independence Ave. SW., EMC-LEAP, Mailstop 1104, Washington, DC 20250.

2. Express, Messenger, or Hand Delivery: USDA Forest Service, Attn: Objection Reviewing Officer, 210 14th St. SW., EMC-LEAP, Mailstop 1104, Washington, DC 20250. The main phone line for carrier deliveries is 202-719-8488.

3. Electronically Filed: Email; objections-chief@fs.fed.us; Please put Objection and Lower Joseph Creek Restoration Project, establishment of Haystack Rock and Horse Pasture Ridge Research Natural Areas in the subject line. Fax: (202) 649-1172

FOR FURTHER INFORMATION CONTACT: Darcy Weseman, Plan Amendment Project Manager, 72510 Coyote Rd. Pendleton, OR 97801, (541) 278-3755, or deweseman@fs.fed.us.

SUPPLEMENTARY INFORMATION: The office business hours for those submitting hand-delivered objections are 8:00 a.m. to 5:00 p.m. (Eastern Standard Time), Monday through Friday, except Federal holidays. Electronic objections must be submitted in a commonly used format such as an email message, plain text (.txt), rich text format (.rtf), or Microsoft Word (.doc or .docx). For electronically mailed objections, the sender should normally receive an automated electronic acknowledgment from the agency as confirmation of receipt. If the sender does not receive an automated acknowledgment of the receipt of the objection, it is the sender's responsibility to ensure timely receipt by other means. The regulations prohibit extending the length of the objection filing period.

Any objection must include the following (30 CFR 219.54(c)):

1. The objector's name and address, telephone number or email address if available. Include the identification of the lead objector, when multiple names are listed on an objection.

2. Signature or other verification of authorship upon request (a scanned signature is allowed for electronic mail);

3. The title of the plan amendment, and the name and title of the Responsible Official;

4. A description of the issues and/or parts of the plan amendment to which the objection applies;

5. A brief statement explaining the objection and suggesting how the draft plan amendment decision may be improved. If the objector believes the plan amendment is inconsistent with law, regulation, or policy, the reasons should be included;

6. A statement that shows the link between the objector's prior substantive formal comments and the content of the objection, unless the objection concerns an issue that arose after the opportunities for formal comment.

Attach documents referenced in the objection except as noted at 36 CFR 219.54(b). The objector is responsible for ensuring the timely filing of written objections. Timeliness will be determined as indicated in 36 CFR 219.56(c).

The Reviewing Officer will provide written acknowledgement of receipt of the objection, if requested by the objector.

Dated: July 20, 2016.
James Peña,
Regional Forester, Pacific Northwest Region.

[FR Doc. 2016-18519 Filed 8-2-16; 8:45 am]

BILLING CODE 3411-15-M